ENVIRONMENTAL PROTECTION AGENCY

[EPA-HQ-OECA-2013-0341; FRL-10002-62-OMS]

Information Collection Request Submitted to OMB for Review and Approval; Comment Request; NESHAP for Plywood and Composite Products (Renewal)

AGENCY: Environmental Protection Agency (EPA).

ACTION: Notice.

SUMMARY: The Environmental Protection Agency (EPA) has submitted an information collection request (ICR), NESHAP for Plywood and Composite Products (EPA ICR Number 1984.08, OMB Control Number 2060-0552), to the Office of Management and Budget (OMB) for review and approval in accordance with the Paperwork Reduction Act. This is a proposed extension of the ICR, which is currently approved through January 31, 2020. Public comments were previously requested, via the Federal Register, on May 6, 2019 during a 60-day comment period. This notice allows for an additional 30 days for public comments. A fuller description of the ICR is given below, including its estimated burden and cost to the public. An agency may neither conduct nor sponsor, and a person is not required to respond to a collection of information, unless it displays a currently valid OMB control number.

DATES: Additional comments may be submitted on or before December 27, 2019.

ADDRESSES: Submit your comments, referencing Docket ID Number EPA-HQ-OECA-2013-0341, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Plywood and Composite Products (40 CFR part 63, subpart DDDD) apply to both new and existing plywood and composite wood products (PCWP) facilities that are a major source of hazardous air pollutants (HAP). A PCWP manufacturing facility is a major source of HAP emissions either in and of itself, or because it is located with other major sources of HAP. A PCWP manufacturing facility is a facility that manufactures plywood and/or composite wood products by bonding wood material (fibers, particles, strands, veneers, etc.) or agricultural fiber, generally with resin under heat and pressure, to form a structural panel or engineered wood product. Plywood and composite wood products manufacturing facilities also include facilities that manufacture dry veneer and lumber kilns located at any facility. Plywood and composite wood products include, but are not limited to, plywood, veneer, particleboard, oriented strandboard, hardboard, fiberboard, medium density fiberboard, laminated strand lumber, laminated veneer lumber, wood I-joists, kiln-dried lumber, and glue-laminated beams. New facilities include those that commenced construction, or reconstruction after January 9, 2003. This information is being collected to assure compliance with 40 CFR part 63, subpart DDDD.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Plywood and composite wood products (PCWP) facilities.

Respondent's obligation to respond: Mandatory (40 CFR part 63, subpart DDDD).

Estimated number of respondents: 244 (total).

Frequency of response: Initially, semiannually.

Total estimated burden: 29,900 hours (per year). Burden is defined at 5 CFR 1320.3(b).

Total estimated cost: $3,550,000 (per year), which includes $105,000 in annualized capital/startup and/or operation & maintenance costs.

Changes in the Estimates: There is an adjustment increase in the total estimated burden as currently identified in the OMB Inventory of Approved Burdens. This increase is not due to any program changes. The adjustment increase in burden is due to several factors. The Agency developed a more accurate estimate of existing and anticipated new sources during the development of the proposed Risk and Technology Review for this subpart. The increase in the number of existing sources led to an increase in burden hours and costs for labor and operation and maintenance. The increase in the number of new sources led to an increase in burden hours and costs for labor, capital, performance testing, and operation and maintenance. New sources are required to purchase and install CMS, conduct performance testing, and send several notifications and reports to EPA. O&M costs for existing sources were updated to reflect more accurate costs for these O&M activities. Also, in the previous ICR, it was assumed that only 10% of sources kept daily records of continuous compliance and annual records of calibration of their CMS; we have corrected this assumption to reflect that 100% of PCWP facilities keep these records. The overall result is an increase in burden hours and costs.

Courtney Kerwin,
Director, Regulatory Support Division.

[FR Doc. 2019-25761 Filed 11-26-19; 8:45 am]

BILLING CODE 6560-50-P